DEPARTMENT OF STATE

[Delegation of Authority: 373]

Delegation by the Secretary of State to the Assistant Secretary for International Security and Nonproliferation of Authority With Respect to Authority Under Section 1204 of the Fiscal Year 2014 National Defense Authorization Act

By virtue of the authority vested in me as Secretary of State, including Section 1 of the State Department Basic Authorities Act, as amended (22 U.S.C. 2651a), and by the Fiscal Year 2014 National Defense Authorization Act, Public Law 113-66 (the NDAA), I hereby delegate to the Assistant Secretary of State for International Security and Nonproliferation, to the extent authorized by law, the authority under Section 1204 of the NDAA to provide concurrence on proposed assistance by the Department of Defense pursuant to that Section.

Any act, executive order, regulation or procedure subject to, or affected by, this delegation shall be deemed to be such act, executive order, regulation or procedure as amended from time to time.

Notwithstanding this delegation of authority, the Secretary, the Deputy Secretary, or the Deputy Secretary for Management and Resources may at any time exercise any authority or function delegated by this delegation of authority.

This delegation of authority shall be published in the Federal Register.

Dated: April 4, 2014.
John F. Kerry,
Secretary of State.

[FR Doc. 2014-10009 Filed 4-30-14; 8:45 am]

BILLING CODE 4710-27-P